DEPARTMENT OF HEALTH AND HUMAN SERVICES

Agency for Toxic Substances and Disease Registry

[ATSDR-275; Regulations.gov Docket: ATSDR-2012-0001]

Substances To Be Evaluated for Set 26 Toxicological Profiles

AGENCY: Agency for Toxic Substances and Disease Registry (ATSDR), Department of Health and Human Services (HHS).

ACTION: Request for comments on the proposed substances to be evaluated for Set 26 toxicological profiles.

SUMMARY: The Comprehensive Environmental Response, Compensation, and Liability Act of 1980 (CERCLA or Superfund), as amended by the Superfund Amendments and Reauthorization Act of 1986 (SARA), requires the Agency for Toxic Substances and Disease Registry (ATSDR), located within the Department of Health and Human Services (HHS), to prepare and to periodically revise toxicological profiles on hazardous substances. ATSDR is initiating the development of its 26th set of toxicological profiles (CERCLA Set 26). This notice announces the list of substances that will be evaluated for CERCLA Set 26 toxicological profile development. ATSDR's Division of Toxicology and Human Health Sciences (proposed) is soliciting public nominations from the list of substances to be evaluated for toxicological profile development. ATSDR also will consider the nomination of any additional substances that are not included on this list that may have public health implications, on the basis of ATSDR's authority to prepare toxicological profiles for substances not found at sites on the National Priorities List. The agency will do so in order to “* * * establish and maintain inventory of literature, research, and studies on the health effects of toxic substances” under CERCLA Section 104(i)(1)(B), to respond to requests for consultation under section 104(i)(4), and to support the site-specific response actions conducted by ATSDR, as otherwise necessary.

DATES: Nominations from the substance priority list and/or additional substances must be submitted within 30 days of the publication of this notice.

ADDRESSES: You may submit nominations, identified by Docket No. ATSDR-2012-0001, by any of the following methods:

• Internet: Access the Federal eRulemaking portal at http://www.regulations.gov. Follow the instructions for submitting comments.

• Mail: Division of Toxicology and Human Health Sciences (proposed), 1600 Clifton Rd. NE., MS F-62, Atlanta, Georgia 30333.

Instructions: All submissions must include the agency name and docket number for this notice. All relevant comments will be posted without change. This means that no confidential business information or other confidential information should be submitted in response to this notice. Refer to the section Submission of Nominations (below) for the specific information required.

FOR FURTHER INFORMATION CONTACT: For further information, please contact CDR Jessilynn Taylor, Division of Toxicology and Human Health Sciences (proposed), 1600 Clifton Rd. NE., MS F-62, Atlanta, Georgia 30333, Email: tpcandidatecomments@cdc.gov; phone: 1-800-232-4636.

SUPPLEMENTARY INFORMATION: The Superfund Amendments and Reauthorization Act of 1986 (SARA) [42 U.S.C. 9601 et seq.] amended the Comprehensive Environmental Response, Compensation, and Liability Act of 1980 (CERCLA or Superfund) [42 U.S.C. 9601 et seq.] by establishing certain requirements for ATSDR and the U.S. Environmental Protection Agency (EPA) with regard to hazardous substances most commonly found at facilities on the CERCLA National Priorities List (NPL). Among these statutory requirements is a mandate for the Administrator of ATSDR to prepare toxicological profiles for each substance included on the Priority List of Hazardous Substances (also called the Substance Priority List). This list identifies 275 hazardous substances that ATSDR (in cooperation with EPA) have determined pose the most significant potential threat to human health. The availability of the revised list of the 275 priority substances was announced in the Federal Register on November 3rd, 2011 (76 FR 68193). For prior versions of the list of substances, see Federal Register notices dated December 7, 2005 (70 FR 70284); and March 6, 2008 (73 FR 12178).

Substances To Be Evaluated for Set 26 Toxicological Profiles

Each year, ATSDR develops a list of substances to be considered for toxicological profile development. The Set 26 nomination process includes consideration of all substances on the ATSDR's Substance Priority List (SPL) as well as other substances nominated by the public. The 275 substances on the list will be considered for Set 26 Toxicological Profile development. This list may be found at the following Web site: www.atsdr.cdc.gov/SPL, and in the docket at www.regulations.gov.

Submission of Nominations for the evaluation of Set 26 Substances: Today's notice invites voluntary public nominations for substances included on the SPL and for substances not listed on the SPL. All nominations should include full name of the nominator, affiliation, and email address. When nominating a non-SPL substance, please include the rationale for the nomination. Please note, email addresses will not be posted on regulations.gov.

ATSDR will evaluate all data and information associated with nominated substances and will determine the final list of substances to be chosen for toxicological profile development. Substances will be chosen according to ATSDR's specific guidelines for selection. These guidelines can be found in the Selection Criteria announced in the Federal Register on May 7, 1993 (58FR27286-27287). A hard copy of the Selection Criteria is available upon request or may be accessed at: http://www.atsdr.cdc.gov/toxprofiles/guidance/criteria_for_selecting_tp_support.pdf.

Please ensure that your comments are submitted within the specified nomination period. Nominations received after the closing date will be marked as late and may be considered only if time and resources permit.

Dated: March 28, 2012.
Ken Rose,
Director, Office of Policy, Planning and Evaluation, National Center for Environmental Health/Agency for Toxic Substances and Disease Registry.

[FR Doc. 2012-7975 Filed 4-2-12; 8:45 am]

BILLING CODE 4163-70-P